DEPARTMENT OF ENERGY

Federal Energy Regulatory Commission

[Docket No. RD16-8-000]

Commission Information Collection Activities (FERC-725I); Comment Request

AGENCY: Federal Energy Regulatory Commission.

ACTION: Comment request.

SUMMARY: In compliance with the requirements of the Paperwork Reduction Act of 1995, 44 U.S.C. 3507(a)(1)(D), the Federal Energy Regulatory Commission (Commission or FERC) is submitting its information collection [FERC-725I (Mandatory Reliability Standards for the Northeast Power Coordinating Council)] to the Office of Management and Budget (OMB) for review of the information collection requirements. Any interested person may file comments directly with OMB and should address a copy of those comments to the Commission as explained below. The Commission previously issued a Notice in the Federal Register (81 FR 54571, 8/16/2016) requesting public comments. The Commission received no comments in response to the RD16-8-000 60-day notice and is making this notation in its submittal to OMB.

DATES: Comments on the collection of information are due by November 25, 2016.

ADDRESSES: Comments filed with OMB, identified by the OMB Control No. 1902-0258, should be sent via email to the Office of Information and Regulatory Affairs: oira_submission@omb.gov. Attention: Federal Energy Regulatory Commission Desk Officer. The Desk Officer may also be reached via telephone at 202-395-4718.

A copy of the comments should also be sent to the Commission, in Docket No. RD16-8-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC-725I, Mandatory Reliability Standards for the Northeast Power Coordinating Council.

OMB Control No.: 1902-0258.

Type of Request: Three-year approval of the FERC-725I information collection requirements, as modified.

Abstract: On June 9, 2016, the North American Electric Reliability Corporation (NERC) and the Northeast Power Coordination Council, Inc. (“NPCC”) filed a petition for Commission approval, pursuant to section 215(d)(1) of the Federal Power Act (“FPA”) ¹ and Section 39.5 ² of the Federal Energy Regulatory Commission's regulations, of the retirement of NPCC Regional Reliability Standard PRC-002-NPCC-01 (Disturbance Monitoring) and the two related NPCC regional definitions, Current Zero Time and Generating Plant.

¹ 16 U.S.C. 824o (2012).

² 18 CFR 39.5 (2015).

Type of Respondents: Public utilities.

Estimate of Annual Burden: ³ The Commission estimates the reduction (due to the retirement of Reliability Standard PRC-002-NPCC-01) in the annual public reporting burden for the information collection as follows:

³ The Commission defines burden as the total time, effort, or financial resources expended by persons to generate, maintain, retain, or disclose or provide information to or for a Federal agency. For further explanation of what is included in the information collection burden, reference 5 Code of Federal Regulations 1320.3.

Information collection requirements | Number of respondents | Annual number of responses per respondent | Total number of responses | Average burden hours | Total annual burden hours
| (1) | (2) | (1) * (2) = (3) | (4) | (3) * (4) = (5)
R13: GO ⁴ and TO to have evidence it acquired and installed dynamic disturbance recorders and a mutually agreed upon implementation schedule with the RC (record retention) | 1 | 1 | 1 | 10 | 10
R14.5: GO and TO to have evidence of a maintenance and testing program for stand-alone disturbance monitoring equipment including monthly verification of active analog quantities | 169 | 12 | 2,028 | 5 | 10,140
R14.7: GO and TO to record efforts to return failed units to service if it takes longer than 90 days ⁵ | 33 | 1 | 33 | 10 | 330
R14.7: GO and TO record retention | 33 | 1 | 33 | 10 | 330
R17: RC provide certain disturbance monitoring equipment data to the Regional Entity upon request | 5 | 1 | 5 | 5 | 25
R17: RC record retention | 5 | 1 | 5 | 10 | 50
TOTAL REDUCTIONS |  |  | 2,105 |  | 10,885

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁴ For purposes of these charts, generation owner is abbreviated to GO, transmission owner is abbreviated to TO, reliability coordinator is abbreviated to RC, and planning coordinator is abbreviated to PC.

⁵ We estimate that an entity will experience a unit failure greater than 90 days once every five years. Therefore, 20 percent of NPCC's 169 generator owners and transmission owners will experience a unit failure of this duration each year.

Dated: October 20, 2016.
Kimberly D. Bose,
Secretary.

[FR Doc. 2016-25841 Filed 10-25-16; 8:45 am]

BILLING CODE 6717-01-P